DEPARTMENT OF ENERGY

Bonneville Power Administration

Notice of Final Policy; Revised Policy on Determining Net Requirements of Pacific Northwest Utility Customers Under Sections 5(b)(1) and 9(c) of the Northwest Power Act

AGENCY: Bonneville Power Administration (BPA), Department of Energy.

ACTION: Notice of final policy.

SUMMARY: In July 2007, the Bonneville Power Administration released its Long-Term Regional Dialogue Final Policy (RD Policy) and associated Record of Decision (ROD). The RD Policy proposed specific, related changes to BPA's May 2000 Policy on Determining Net Requirements Under Sections 5(b)(1) and 9(c) of the Northwest Power Act (5(b)/9(c) Policy) that BPA identified as necessary for the successful implementation of the RD Policy. Accordingly, BPA conducted a limited-scope review of its 5(b)/9(c) Policy for the purpose of supporting the implementation of the RD Policy.

Section II.B.8 of the RD Policy describes the limited changes to the 5(b)/9(c) Policy. BPA issued its 2008 Proposal for Modifications to BPA's Policy on Determining Net Requirements Under Sections 5(b) and 9(c) of the Northwest Power Act for public comment in September 2008. Proposed modifications to the 5(b)/9(c) Policy were limited to the changes stated in the RD Policy and necessary enabling language. Upon review and consideration of comment, BPA is now releasing its Revised Policy on Determining Net Requirements of Pacific Northwest Utility Customers Under Sections 5(b)/(1) and 9(c) of the Northwest Power Act and its associated ROD.

DATES: On March 19, 2009, the BPA Administrator signed the 5(b)/9(c) ROD adopting the Revised Policy on Determining Net Requirements of Pacific Northwest Utility Customers Under Sections 5(b)(1) and 9(c) of the Northwest Power Act.

ADDRESSES: The Revised 5(b)/9(c) Policy and ROD are available on the BPA Web site at http://www.bpa.gov/power/pl/regionaldialogue/implementation/documents/. Copies are also available by contacting BPA's Public Information Center at (800) 622-4520.

FOR FURTHER INFORMATION CONTACT: Scott Wilson, Regional Dialogue Program Manager, at (503) 230-7638.

Issued in Portland, Oregon on March 20, 2009.
Stephen J. Wright,
Administrator and Chief Executive Officer, Bonneville Power Administration.

[FR Doc. E9-7168 Filed 3-30-09; 8:45 am]

BILLING CODE 6450-01-P